DEPARTMENT OF ENERGY

Federal Energy Regulatory Commission

[Docket No. RP01-206-000]

Texas Eastern Transmission Corporation; Notice of Proposed Changes in FERC Gas Tariff

Correction

In notice document 01-1141 appearing on page 3576 in the issue of Tuesday, January 16, 2001, the docket number should read as set forth above.

[FR Doc. C1-1141 Filed 1-31-01; 8:45 am]

BILLING CODE 1505-01-D

DEPARTMENT OF THE TREASURY

Internal Revenue Service

26 CFR Parts 1, 31, 35, 36, 40, 301, 601

[REG-107176-00

RIN 1545-AY10

Removal of Federal Reserve Banks as Federal Depositaries

Correction

In proposed rule document 00-32568 beginning on page 81453 in the issue of Tuesday, December 26, 2000, make the following correction:

§1.6302-2 [Corrected]

On page 81454, in the table, under the heading “Add”, remove the eighth entry, “203”.

[FR Doc. C0-32568 Filed 1-31-01; 8:45 am]

BILLING CODE 1505-01-D